DEPARTMENT OF ENERGY

Federal Energy Regulatory Commission

[Docket No. EL24-148-000]

Sierra Club, et al., v. PJM Interconnection, L.L.C.; Notice of Complaint

Take notice that on September 27, 2024, pursuant to sections 206 and 306 of the Federal Power Act, 16 U.S.C. 824e, 825e and Rule 206 of the Federal Energy Regulatory Commission's (Commission) Rules of Practice and Procedure, 18 CFR 385.206, Sierra Club, Natural Resources Defense Council, Public Citizen, Sustainable FERC Project, and the Union of Concerned Scientists (Complainants) filed a complaint against PJM Interconnection, L.L.C. (PJM or Respondent). Complainants assert that PJM's capacity market auction rules are unjust and unreasonable because they fail to account for the resource adequacy contributions of Reliability Must Run units in the capacity auction. Complainants request that the Commission delay the upcoming 2026/2027 Base Residual Auction (BRA) for a limited time as needed for a revised tariff to be approved and implemented, or otherwise have the 2026/2027 BRA run subject to refund.

The Respondent's answer and all interventions, or protests must be filed on or before October 10, 2024, and should address the complaint regarding the treatment of RMR units as well as the request to delay the upcoming 2026/2027 BRA. Answers to Respondent's answer and/or answers to protests must be filed on or before 5:00 p.m. Eastern Time on October 15, 2024.

The filings are accessible in the Commission's eLibrary system by querying the docket number.

Any person desiring to intervene, to protest, or to answer a complaint in the above proceeding must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 30, 2024.
Debbie-Anne A. Reese,
Acting Secretary.

[FR Doc. 2024-23046 Filed 10-4-24; 8:45 am]

BILLING CODE 6717-01-P